DEPARTMENT OF THE INTERIOR

Fish and Wildlife Service

[Docket No. FWS-R4-ES-2021-0072; FXES11140400000-212-FF04EF4000]

Receipt of Incidental Take Permit Application and Proposed Habitat Conservation Plan for the Sand Skink, Putnam County, FL; Categorical Exclusion

AGENCY: Fish and Wildlife Service, Interior.

ACTION: Notice of availability; request for comment and information.

SUMMARY: We, the Fish and Wildlife Service (Service), announce receipt of an application from Vulcan Materials Company (applicant) to amend of an existing incidental take permit (TE82956B-0) under the Endangered Species Act. The applicant requests the amendment of an incidental take permit (ITP) to take an additional number of the federally listed sand skink incidental sand mining operation in Putman County, Florida. We request public comment on the application, which includes the applicant's proposed amended habitat conservation plan (HCP), and the Service's preliminary determination that this HCP qualifies as “low-effect,” categorically excluded, under the National Environmental Policy Act. To make this determination, we used our environmental action statement and low-effect screening form, both of which are also available for public review.

DATES: We must receive your written comments on or before August 9, 2021.

ADDRESSES:

Obtaining Documents: You may obtain copies of the documents online in Docket No. FWS-R4-ES-2021-0072 at http://www.regulations.gov.

Submitting Comments: If you wish to submit comments on any of the documents, you may do so in writing by any of the following methods:

• Online: http://www.regulations.gov. Follow the instructions for submitting comments on Docket No. FWS-R4-ES-2021-0072.

• U.S. mail: Public Comments Processing, Attn: Docket No. FWS-R4-ES-2021-0072; U.S. Fish and Wildlife Service, MS: PRB/3W, 5275 Leesburg Pike, Falls Church, VA 22041-3803.

FOR FURTHER INFORMATION CONTACT: Erin M. Gawera, by telephone at 904-731-3121 or via email at erin_gawera@fws.gov. Individuals who are hearing impaired or speech impaired may call the Federal Relay Service at 800-877-8339 for TTY assistance.

SUPPLEMENTARY INFORMATION: We, the Fish and Wildlife Service, announce receipt of an application from Vulcan Materials Company for an amendment of an incidental take permit under the Endangered Species Act of 1973, as amended (ESA; 16 U.S.C. 1531 et seq.). The applicant requests to modify the existing ITP to allow for take of the federally listed sand skink (Neoseps reynoldsi) in an amount above that authorized by the existing permit. The take would be incidental to the activities associated with the operation of a sand mine (project) in Putnam County, Florida. We request public comment on both the application, which includes the applicant's amended proposed habitat conservation plan (HCP), and the Service's preliminary determination that this HCP qualifies as “low-effect,” categorically excluded, under the National Environmental Policy Act (NEPA; 42 U.S.C. 4231 et seq.). To make this determination, we used our environmental action statement and low-effect screening form, which are also available for public review.

Project

The applicant has an existing 20-year ITP that was issued on February 12, 2016, authorizing take of sand skinks via the conversion of an unspecified amount of the species' occupied foraging and sheltering habitat within 1,183.62 acres that is part of a 6,815.79-acre tract. The tract is located within Sections 12-13, Township 9 south, Range 23 east, Sections 7, 17-21, 28-33, Township 9 south, Range 24 east, and Sections 5-6, Township 10 south, Range 24 east in Putnam County, Florida. The parcel numbers are 07-09-24-0000-0020-0010, 12-09-23-0000-0010-0000, 13-09-23-0000-0030-0000, 17-09-24-0000-0040-0020, 17-09-24-0000-0010-0010, 18-09-24-0000-0010-0000, 18-09-24-0000-0020-0000, 19-09-24-0000-0010-0010, 19-09-24-0720-0000-0520, and 20-09-24-0000-0020-0000. The applicant proposes to expand the current project boundary from 1,183.62 acres to 1,683.86 acres, for a net increase of 500.24 acres. The amount of occupied skink habitat within the expansion area is undetermined; however, based on the current USFWS guideline, approximately 452.4 acres of the site appear to be suitable for the skink. In advance of mining operations occurring within the entire area, quantitative surveys will be conducted to determine the extent of suitable area that is occupied by the sand skink. The surveys will be conducted in accordance with the Service's then guidelines. The applicant will mitigate for take of the sand skink within the expansion area by purchasing mitigation credits at a 2:1 ratio (2 mitigation credits for every 1 acre of occupied skink habitat impacted by the project) from the Tiger Creek Conservation Bank or another Service-approved sand skink bank. The Service will require the applicant to purchase the required credits prior to engaging in activities associated with the project on occupied habitat within the expansion area.

Public Availability of Comments

Before including your address, phone number, email address, or other personal identifying information in your comment, be aware that your entire comment—including your personal identifying information—may be made available to the public. While you may request that we withhold your personal identifying information, we cannot guarantee that we will be able to do so.

Our Preliminary Determination

The Service has made a preliminary determination that the applicant's project, including earth moving, grading, and other land alteration and construction activities and the proposed mitigation, would individually and cumulatively have a minor or negligible effect on sand skinks and the environment. Therefore, we have preliminarily concluded that the ITP for this project would qualify for categorical exclusion and that the HCP is low effect under our NEPA regulations at 43 CFR 419.2005 and 419.2010. A low-effect HCP is one that would result in (1) minor or negligible effects on federally listed, proposed, and candidate species and their habitats; (2) minor or negligible effects on other environmental values or resources; and, (3) impacts that, when considered together with the impacts of other past, present, and reasonably foreseeable similarly situated projects, would not over time result in significant cumulative effects to environmental values or resources.

Next Steps

The Service will evaluate the application and the comments received to determine whether to issue the requested permit. We will also conduct an intra-Service consultation pursuant to section 7 of the ESA to evaluate the effects of the proposed take. After considering the above findings, we will determine whether the criteria of section 10(a)(1)(B) of the ESA have been met to modify the existing ITP. If met, the Service will issue the modified permit, ITP number TE82956B-1, to Vulcan Materials Company.

Authority

The Service provides this notice under section 10(c) of the ESA (16 U.S.C. 1531 et seq.) and its implementing regulations (50 CFR 17.32) and NEPA (42 U.S.C. 4321 et seq.) and its implementing regulations (40 CFR 1506.6 and 43 CFR 46.305).

Gianfranco Basili,
Deputy State Supervisor, Florida Ecological Services State Office.

[FR Doc. 2021-14508 Filed 7-7-21; 8:45 am]

BILLING CODE 4333-15-P